DEPARTMENT OF THE INTERIOR

National Park Service

Boundary Revision

AGENCY: National Park Service, Department of the Interior.

ACTION: Notification of Boundary Revision.

SUMMARY: This notice announces the revision to the boundary of Big Thicket National Preserve to include 33 tracts of land that were acquired by the United States of America between 1977 and 2006 listed as follows: Tract 102-10, 16.94 acres; Tract 104-17, 34.33 acres; Tract 126-27, 0.43 acre; Tract 143-28, 0.63 acre; Tract 143-29, 4.67 acres; Tract 143-30, 1.60 acres; Tract 145-41, 20.16 acres; Tract 158-42, 0.34 acre; Tract 158-43, 0.81 acre; Tract 158-44, 1.35 acres; Tract 158-45, 1.46 acres; Tract 158-46, 1.74 acres; Tract 158-47, 27.50 acres; Tract 158-48, 15.63 acres; Tract 159-59, 0.08 acre; Tract 159-60, 0.80 acre; Tract 164-50, 8.39 acres; Tract 172-05, 0.03 acre; Tract 173-08, 0.04 acre; Tract 173-10, 0.22 acre; Tract 174-05, 28.45 acres; Tract 176-19, 1.11 acres; Tract 189-30, 9.65 acres; Tract 191-27, 19.93 acres; Tract 201-11, 149.08 acres; Tract 206-06, 3.95 acres; Tract 221-11, 48.46 acres; Tract 223-07, 141.78 acres; Tract 223-08, 27.19 acres; Tract 223-10, 25.10 acres; Tract 223-12, 54.30 acres; Tract 223-13, 720.37 acres; and Tract 228-01, 6.25 acres.

The National Park Service has determined that this boundary revision will make a significant contribution to the purpose for which the preserve was created and will allow the National Park Service to maintain managerial and law enforcement jurisdiction over these tracts.

FOR FURTHER INFORMATION CONTACT: National Park Service, Glenna F. Vigil, Chief Land Resources Program Center, Intermountain Region, P.O. Box 728, Santa Fe, New Mexico 87504.

Note: When contacting this office or any government office, before including your address, phone number, e-mail address, or other personal identifying information in your comment, you should be aware that your entire comment—including your personal identifying information—may be made publicly available at any time. While you can ask us in your comment to withhold your personal identifying information from public review, we cannot guarantee that we will be able to do so.

DATES: The effective date of this boundary revision is December 12, 2007.

SUPPLEMENTARY INFORMATION: The Act of October 11, 1974, as amended, established the Big Thicket National Preserve and provides that after notifying the House Committee on Resources and the Senate Committee on Energy and Resources, the Secretary of the Interior is authorized to make this boundary revision. This action will add 33 tracts of land comprised of 1,372.77 acres of land to the Big Thicket National Preserve. The acquisition of these parcels was required to maintain the ecology and the present rural character for which the preserve was created. The above referenced Tracts are depicted on land acquisition segment maps as follows: Segment Map 102, having drawing number 175/30,002, sheet 2 of 5, dated December, 1975; Segment Map 104, having drawing number 175/30,002, sheet 4 of 5, dated November, 2004; Segment Map 126, having drawing number 175/30,005, sheet 8 of 11, dated December, 1977; Segment Map 143, having drawing number 175/30,007, sheet 7 of 33, dated October, 1976; Segment Map 145, having drawing number 175/30,007, sheet dated October, 2006; Segment 158, having drawing number 175/30,007, sheet 22 of 33, dated October, 1976; Segment 159, having drawing number 175/30,007, sheet 23 of 33 dated October, 1976; Segment 164, having drawing number 175/30,007, sheet 28 of 33, dated October, 1976; Segment 172, having drawing number 175/30,008, sheet 4 of 8, dated August, 1977; Segment 173, having drawing number 175/30,008, sheet 5 of 8, dated August, 1977; Segment 174, having drawing number 175/30,008, sheet 6 of 8, dated August, 1977; Segment 176, having drawing number 175/30,008, sheet 8 of 8, dated August, 1977; Segment 189, having drawing number 175/30,009, sheet 2 of 8, dated October 1977; Segment 191, having drawing number 175/30,009, sheet 4 of 8, dated October 1977; Segment 201, having drawing number 175/30,012, sheet 7 of 8, dated May 1978; Segment 206, having drawing number 175/30,011, sheet 5 of 15, dated September, 1978; Segment 221, having drawing number 175/80,010, sheet 4 of 10, dated March, 2005; Segment 223, having drawing number 175/80,010, sheet 6 of 10, dated January, 2006; and Segment 228, having drawing number 175/80,013, sheet 1 of 1, dated March, 2006. These maps are on file at the National Park Service Land Resources Program Center, Intermountain Region, Santa Fe, New Mexico, and at the Office of the Superintendent at Big Thicket National Preserve, Beaumont, Texas.

Note: This document was received at the Office of the Federal Register, National Archives and Records Administration, Washington, DC on December 7, 2007.

Dated: July 12, 2007.
Michael D. Snyder,
Director, Intermountain Region.

[FR Doc. E7-24065 Filed 12-11-07; 8:45 am]

BILLING CODE 4312-CB-P